DEPARTMENT OF COMMERCE

International Trade Administration

[A-570-010, A-583-853]

Crystalline Silicon Photovoltaic Products From the People's Republic of China and Taiwan: Final Results of the Expedited First Sunset Reviews of the Antidumping Duty Orders

AGENCY: Enforcement and Compliance, International Trade Administration, Department of Commerce.

SUMMARY: The Department of Commerce (Commerce) finds that revocation of the antidumping duty (AD) orders on crystalline silicon photovoltaic products from the People's Republic of China (China) and Taiwan would likely lead to continuation or recurrence of dumping at the level indicated in the “Final Results of Sunset Reviews” section of this notice.

DATES: Applicable May 6, 2020.

FOR FURTHER INFORMATION CONTACT: Abdul Alnoor and Eva Kim, AD/CVD Operations, Office IV, Enforcement and Compliance, International Trade Administration, U.S. Department of Commerce, 1401 Constitution Avenue NW, Washington, DC 20230; telephone: (202) 482-4554 and (202) 482-8283, respectively.

SUPPLEMENTARY INFORMATION:

Background

After publication of the notice of initiation of these sunset reviews of the AD orders ¹ on crystalline silicon photovoltaic products from China and Taiwan,² pursuant to section 751(c) of the Tariff Act of 1930, as amended (the Act), SunPower Manufacturing Oregon, LLC and Hanwha Q CELLS USA, Inc. (Hanwha) (domestic interested parties) filed with Commerce timely and complete notices of intent to participate in the sunset reviews,³ and timely and adequate substantive responses.⁴ Commerce did not receive a substantive response from any respondent interested party. As a result, pursuant to section 751(c)(3)(B) of the Act and 19 CFR 351.218(e)(1)(ii)(C)(2), Commerce conducted an expedited (120-day) sunset review of the Orders.⁵

¹ See Antidumping Duty Order: Certain Crystalline Silicon Photovoltaic Products from the People's Republic of China, 80 FR 8592 (February 18, 2015) and Antidumping Duty Order: Certain Crystalline Silicon Photovoltaic Products from Taiwan, 80 FR 8596 (February 18, 2015) (Orders).

² See Initiation of Five-Year (Sunset) Reviews, 85 FR 67 (January 2, 2020).

³ See Domestic Interested Parties' Letter, “Crystalline Silicon Photovoltaic Products from China and Taiwan: Intent to Participate in Sunset Reviews,” dated January 13, 2020; see also “Crystalline Silicon Photovoltaic Products from People Republic of China and Taiwan: Hanwha Q CELLS USA, Inc.'s Notice of Intent to Participate in Sunset Reviews,” dated January 17, 2020.

⁴ See Domestic Interested Parties' Letters, “Crystalline Silicon Photovoltaic Products from China and Taiwan Sunset Reviews: Substantive Response of SPMOR,” dated February 3, 2020; and “Certain Crystalline Silicon Photovoltaic Products from China and Taiwan, Inv. Nos. 701-TA-511 and 731-TA-1246 and 1247 (1st Sunset Review); Hanwha Q CELLS USA, Inc.'s Substantive Response,” dated February 3, 2020.

⁵ For a complete description of the background for these sunset reviews, see Commerce Memorandum, “Issues and Decision Memorandum for the Expedited First Sunset Reviews of the Antidumping Duty Orders on Crystalline Silicon Photovoltaic Products from the People's Republic of China and Taiwan,” dated concurrently with, and hereby adopted by, this notice (Issues and Decision Memorandum).

Scope of the Orders

The merchandise covered by these Orders is crystalline silicon photovoltaic products from China and Taiwan. Merchandise covered by the Orders is currently classified in the Harmonized Tariff Schedule of the United States (“HTSUS”) under subheadings 8501.61.0000, 8507.20.8030, 8507.20.8040, 8507.20.8060, 8507.20.8090, 8541.40.60.15, 8541.40.6020, 8541.40.6030, 8541.40.60.35 and 8501.31.8000. These HTSUS subheadings are provided for convenience and customs purposes; the written description of the scope of the Orders is dispositive.⁶

⁶ The full scope of the Orders is included in the Issues and Decision Memorandum.

Analysis of Comments Received

A complete discussion of all issues raised in these sunset reviews, including the likelihood of continuation or recurrence of dumping in the event of revocation of the Orders and the magnitude of the dumping margins likely to prevail if the Orders were to be revoked, is provided in the accompanying Issues and Decision Memorandum, which is hereby adopted by this notice.⁷ A list of the topics discussed in the Issues and Decision Memorandum is attached as an Appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed on the internet at http://enforcement.trade.gov/frn/. The signed Issues and Decision Memorandum and the electronic version of the Issues and Decision Memorandum are identical in content.

⁷ See Issues and Decision Memorandum.

Final Results of Sunset Reviews

Pursuant to sections 751(c)(1), 752(c)(1) and (3) of the Act, Commerce determines that revocation of the Orders would be likely to lead to continuation or recurrence of dumping, and that the magnitude of the dumping margins likely to prevail would be weighted-average dumping margins up to 165.04 percent for China and 27.55 percent for Taiwan.

Administrative Protective Orders

This notice also serves as the only reminder to parties subject to administrative protective order (APO) of their responsibility concerning the return or destruction of proprietary information disclosed under APO in accordance with 19 CFR 351.305. Timely notification of the return or destruction of APO materials, or conversion to judicial protective orders is hereby requested. Failure to comply with the regulations and terms of an APO is a violation which is subject to sanction.

Notification to Interested Parties

We are issuing and publishing these results and notice in accordance with sections 751(c), 752(c), and 777(i)(1) of the Act, and 19 CFR 351.218 and 19 CFR 351.221(c)(5)(ii).

Dated: May 1, 2020.
Joseph A. Laroski Jr.,
Deputy Assistant Secretary for Policy and Negotiations.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margin of Dumping Likely to Prevail

VII. Final Results of Sunset Reviews

VIII. Recommendation

[FR Doc. 2020-09668 Filed 5-5-20; 8:45 am]

BILLING CODE 3510-DS-P